DEPARTMENT OF JUSTICE

Notice of Lodging of Consent Decrees Under the Comprehensive Environmental Response, Compensation, and Liability Act (CERCLA)

Notice is hereby given that on August 4, 2010, two proposed Consent Decrees (“Decrees”) in United States and the State of South Dakota v. Patricia F. Repke and the Ruth E. Hankins Revocable Trust, Case No. 5:10-CV-05062-JLV, were lodged with the United States District Court for the District of South Dakota, Western Division. The case was brought under Sections 107(a) and 113(g)(2) of the Comprehensive Environmental Response, Compensation, and Liability Act (“CERCLA”), 42 U.S.C. 9607(a) and 9613(g)(2), for the recovery of response costs related to the cleanup at the Gilt Edge Mine Superfund Site (“Site”) in Lawrence County, South Dakota.

The Consent Decrees require Patricia F. Repke and the Ruth E. Hankins Revocable Trust to: (1) Confess to $235,000 and $450,000 judgments, respectively; (2) agree to transfer the Site properties they own to the State of South Dakota; and (3) assign any insurance coverage related to the Site to the United States.

The United States and the State of South Dakota filed a Complaint simultaneous with the Consent Decrees alleging that the Defendants are jointly and severally liable for response costs related to the cleanup at the Gilt Edge Mine Superfund Site in Lawrence County, South Dakota. 42 U.S.C. 9607(a), 9613(g)(2). The Consent Decrees would resolve the claims against the Defendants as described in the Complaint.

The Department of Justice will receive for a period of thirty (30) days from the date of this publication comments relating to the Decrees. Comments should be addressed to the Assistant Attorney General, Environment and Natural Resources Division, and either e-mailed to the pubcomment-ees.enrd@usdoj.gov or mailed to P.O. Box 7611, U.S. Department of Justice, Washington, DC 20044-7611, and should refer to United States and the State of South Dakota v. Patricia F. Repke and the Ruth E. Hankins Revocable Trust, Case No. 5:10-CV-05062-JLV, D.J. Ref. No. 90-11-3-08278/3.

The Decrees may be examined at the Office of the United States Attorney, District of South Dakota, 515 Ninth Street, Suite 201, Rapid City, South Dakota 57701. They also may be examined at the offices of U.S. EPA Region 8, 1595 Wynkoop Street, Denver, Colorado 80202. During the public comment period, the Decrees may be examined on the following Department of Justice Web site, http://www.usdoj.gov/enrd/Consent_Decrees.html.

A copy of the Decrees may be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting copies from the Consent Decree Library, please enclose a check in the amount of $17.25 (25 cents per page reproduction cost)($8.50 for a copy of the Consent Decree related to Patricia F. Repke)($8.75 for a copy of the Consent Decree related to the Ruth E. Hankins Revocable Trust) payable to the U.S. Treasury or, if by e-mail or fax, forward a check in that amount to the Consent Decree Library at the stated address.

Maureen Katz,
Assistant Section Chief, Environmental Enforcement Section, Environment and Natural Resources Division.

[FR Doc. 2010-20654 Filed 8-19-10; 8:45 am]

BILLING CODE 4410-15-P